DEPARTMENT OF TRANSPORTATION

Federal Aviation Administration

14 CFR Part 39

[Docket No. FAA-2004-19050; Directorate Identifier 2004-NM-139-AD; Amendment 39-13900; AD 2004-25-12]

RIN 2120-AA64

Airworthiness Directives; Empresa Brasileira de Aeronautica S.A. (EMBRAER) Model EMB-135 and -145 Series Airplanes

AGENCY: Federal Aviation Administration (FAA), DOT.

ACTION: Final rule; correction.

SUMMARY: The FAA is correcting a typographical error in an existing airworthiness directive (AD) that was published in the Federal Register on December 9, 2004 (69 FR 71339). The docket number of the final rule was incorrectly cited as FAA-2004-19767. This AD applies to all EMBRAER Model EMB-135 and -145 series airplanes. This AD requires a one-time inspection of each passenger service unit (PSU) to determine the serial number of the printed circuit board (PCB) installed in each PSU, replacement of the PCB if necessary, related investigative actions, and other specified actions.

DATES: Effective January 13, 2005.

ADDRESSES: You can examine the contents of this AD docket on the Internet at http://dms.dot.gov, or in person at the Docket Management Facility, U.S. Department of Transportation, 400 Seventh Street, SW., room PL-401, on the plaza level of the Nassif Building, Washington, DC. This docket number is FAA-2004-19050; the directorate identifier for this docket is 2004-NM-139-AD.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

Examining the Docket

You can examine the AD docket on the Internet at http://dms.dot.gov, or in person at the Docket Management Facility between 9 a.m. and 5 p.m., Monday through Friday, except Federal holidays.

SUPPLEMENTARY INFORMATION: On November 30, 2004, the FAA issued AD 2004-25-12, amendment 39-13900 (69 FR 71339, December 9, 2004), for all EMBRAER Model EMB-135 and -145 series airplanes. The AD requires a one-time inspection of each passenger service unit (PSU) to determine the serial number of the printed circuit board (PCB) installed in each PSU, replacement of the PCB if necessary, related investigative actions, and other specified actions.

As published, the docket number of the final rule is incorrectly cited in the product identification section of the preamble and the regulatory information of the final rule. In the regulatory text, that AD reads “* * * Docket No. FAA-2004-19767. * * *” However, that AD should have read “* * * Docket No. FAA-2004-19050. * * *”

No other part of the regulatory information has been changed; therefore, the final rule is not republished in the Federal Register.

The effective date of this AD remains January 13, 2005.

PART 39—AIRWORTHINESS DIRECTIVES

§ 39.13 [Corrected]

On page 71340, in the first column, the product identification line of AD 2004-25-12 is corrected to read as follows:

* * * * *

2004-25-12 Empresa Brasileira de Aeronautica S.A. (EMBRAER): Amendment 39-13900. Docket No. FAA-2004-19050; Directorate Identifier 2004-NM-139-AD.

* * * * *

Issued in Renton, Washington, on December 27, 2004.
Kevin M. Mullin,
Acting Manager, Transport Airplane Directorate, Aircraft Certification Service.

[FR Doc. 05-19 Filed 1-3-05; 8:45 am]

BILLING CODE 4910-13-P